DEPARTMENT OF COMMERCE

International Trade Administration

[C-469-818]

Ripe Olives From Spain: Final Results of Countervailing Duty Administrative Review; 2019

AGENCY: Enforcement and Compliance, International Trade Administration, Department of Commerce.

SUMMARY: The Department of Commerce (Commerce) determines that certain producers/exporters of ripe olives from Spain received countervailable subsidies during the period of review (POR), January 1, 2019, through December 31, 2019.

DATES: Applicable March 11, 2022.

FOR FURTHER INFORMATION CONTACT: Mary Kolberg or Dusten Hom, AD/CVD Operations, Office I, Enforcement and Compliance, International Trade Administration, U.S. Department of Commerce, 1401 Constitution Avenue NW, Washington, DC 20230; telephone: (202) 482-1785 and (202) 482-5075, respectively.

SUPPLEMENTARY INFORMATION:

Background

Commerce published the Preliminary Results of this review on September 7, 2021, and invited comments from interested parties.¹ On December 6, 2021, Commerce extended the deadline for the final results of this administrative review until March 4, 2022.² For a complete description of the events that occurred since the Preliminary Results, see the Issues and Decision Memorandum.³

¹ See Ripe Olives from Spain: Preliminary Results of Countervailing Duty Administrative Review; 2019, 86 FR 50022 (September 7, 2021) (Preliminary Results), and accompanying Preliminary Decision Memorandum.

² See Memorandum, “Ripe Olives from Spain: Extension of Deadline for Final Results of Countervailing Duty Administrative Review; 2019,” dated December 6, 2021.

³ See Memorandum, “Issues and Decision Memorandum for the Final Results of the Countervailing Duty Administrative Review of Ripe Olives from Spain; 2017-2018,” dated concurrently with, and hereby adopted by, this notice (Issues and Decision Memorandum).

Scope of the Order

The products covered by the order are ripe olives from Spain. For a complete description of the scope of this order, see the Issues and Decision Memorandum.

Analysis of Comments Received

All issues raised by the interested parties in their case and rebuttal briefs are addressed in the Issues and Decision Memorandum. A list of these issues is identified in the appendix to this notice. The Issues and Decision Memorandum is a public document and is on file electronically via Enforcement and Compliance's Antidumping and CVD Centralized Electronic Service System (ACCESS). ACCESS is available to registered users at http://access.trade.gov. In addition, a complete version of the Issues and Decision Memorandum can be accessed directly at https://access.trade.gov/public/FRNoticesListLayout.aspx.

Changes Since the Preliminary Results

Based on the comments received from interested parties, we revised the calculation of the net countervailable subsidy rates for the respondents: Agro Sevilla Aceitunas S.COOP Andalusia (Agro Sevilla) and Angel Camacho Alimentacion S.L. (Camacho). For a discussion of these issues, see the Issues and Decision Memorandum.

Methodology

Commerce conducted this review in accordance with section 751(a)(1)(A) of the Tariff Act of 1930, as amended (the Act). For each of the subsidy programs found to be countervailable, we determine that there is a subsidy, i.e., a government-provided financial contribution that gives rise to a benefit to the recipient, and that the subsidy is specific.⁴ The Issues and Decision Memorandum contains a full description of the methodology underlying Commerce's conclusions, including any determination that relied upon the use of facts otherwise available, including, adverse facts available, pursuant to sections 776(a) and (b) of the Act.

⁴ See sections 771(5)(B) and (D) of the Act regarding financial contribution; section 771(5)(E) of the Act regarding benefit; and section 771(5A) of the Act regarding specificity.

Rate for Non-Selected Companies Under Review

There are three companies for which a review was requested and not rescinded, and which were not selected as mandatory respondents or found to be cross owned with a mandatory respondent. For these companies, because the rates calculated for the mandatory respondents, Agro Sevilla and Camacho, were above de minimis and not based entirely on facts available, we are applying to the non-selected companies the weighted average of the net subsidy rates calculated for Agro Sevilla and Camacho, which we calculated using the publicly-ranged sales data submitted by Agro Sevilla and Camacho.⁵ This methodology to establish the all-others subsidy rate is consistent with our practice and section 705(c)(5)(A) of the Act.

⁵ With two respondents under examination, Commerce normally calculates (A) a weighted-average of the estimated subsidy rates calculated for the examined respondents; (B) a simple average of the estimated subsidy rates calculated for the examined respondents; and (C) a weighted-average of the estimated subsidy rates calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

Final Results of Review

We determine the following net countervailable subsidy rates for the POR January 1, 2019, through December 31, 2019:

Exporter/producer | Subsidy rate (percent ad valorem)
Agro Sevilla Aceitunas S.Coop And | 4.98
Angel Camacho Alimentacion S.L. and its cross-owned affiliates ⁶ | 2.43
Review-Specific Average Rate Applicable to the Following Companies ⁷
Aceitunas Guadalquivir, S.L | 3.76
Alimentary Group Dcoop S. Coop. And | 3.76
Internacional Olivarera, S.A | 3.76

Disclosure

We intend to disclose to interested parties the calculations and analysis performed in the final results of this review within five days of the date of publication of this notice in accordance with 19 CFR 351.224(b).

⁶ Commerce found the following companies to be cross-owned with Angel Camacho Alimentación, S.L.: Grupo Angel Camacho, S.L., Cuarterola S.L., and Cucanoche S.L.

⁷ This rate is based on the rates for the respondents that were selected for individual review, excluding rates that are zero, de minimis, or based entirely on facts available. See section 735(c)(5)(A) of the Act.

Assessment

In accordance with section 751(a)(2)(C) of the Act and 19 CFR 351.212(b)(2), Commerce shall determine, and CBP shall assess, countervailing duties on all appropriate entries covered by this review. Commerce intends to issue appropriate assessment instructions to CBP no earlier than 35 days after the date of this publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown above for the above-listed companies with regard to shipments of subject merchandise entered, or withdrawn from warehouse, for consumption on or after the date of publication of these final results of review. For all non-reviewed firms, CBP will continue to collect cash deposits of estimated countervailing duties at the most recent company-specific or all-others rate applicable to the company, as appropriate. These cash deposit requirements, when imposed, shall remain in effect until further notice.

Administrative Protective Order

This notice serves as a final reminder to parties subject to administrative protective order (APO) of their responsibility concerning the destruction of proprietary information disclosed under APO in accordance with 19 CFR 351.305(a)(3). Timely written notification of return or destruction of APO materials or conversion to judicial protective order is hereby requested. Failure to comply with the regulations and the terms of an APO is sanctionable violation.

Notification to Interested Parties

These final results are issued and published in accordance with sections 751(a)(1) and 777(i) of the Act and 19 CFR 351.221(b)(5).

Dated: March 4, 2022.
Lisa W. Wang,
Assistant Secretary for Enforcement and Compliance.

Appendix—List of Topics Discussed in the Issues and Decision Memorandum

I. Summary

II. Background

III. Scope of the Order

IV. Non-Selected Companies Under Review

V. Subsidies Valuation

VI. Use of Facts Otherwise Available and Adverse Inferences

VII. Analysis of Programs

VIII. Analysis of Comments

Comment 1: Whether Commerce Properly Interpreted and Applied the Standard Established by Section 771B(1) of the Act for Determining “Substantially Dependent” Demand

Comment 2: Whether the EU CAP Pillar I—BPS is De Jure Specific

Comment 3: Whether Loans From the European Investment Bank (EIB) are Countervailable

Comment 4: Whether Loans From the European Investment Fund (EIF) are Countervailable

Comment 5: Whether Commerce Should Adjust its Calculations for Purchases of Molinos

Comment 6: Whether Commerce Should Base its Final Subsidy Rates for Camacho and Agro Sevilla on Adverse Facts Available (AFA)

Comment 7: Whether Commerce Should Use Partial AFA in the Per-Kilogram (KG) Benefit Calculation of Certain Growers

Comment 8: Whether Commerce Should Assign Dcoop its Company-Specific Rate From the First Administrative Review as the Rate for This Administrative Review

Comment 9: Whether Commerce Should Correct Certain Errors in its Calculations

IX. Recommendation

[FR Doc. 2022-05212 Filed 3-10-22; 8:45 am]

BILLING CODE 3510-DS-P